DEPARTMENT OF ENERGY

Federal Energy Regulatory Commission

[Docket No. EL02-100-000]

Public Utility District No. 1 of Snohomish County, WA, Complainant, v. American Electric Power Service Corporation, as Agent for the Operating Companies of American Electric Power Company, Inc., Respondent; Notice of Complaint

June 19, 2002.

Take notice that on June 18, 2002, Public Utility District No. 1 of Snohomish County, Washington (Snohomish) filed a complaint against American Electric Power Service Corporation (AEP), as agent for the Operating Companies of American Electric Power Company, Inc., concerning a long-term power supply contract executed by AEP with Snohomish in January 2001, when the Western energy markets allegedly were dysfunctional. Snohomish requests that the Commission: (i) revoke AEP's market-based rate authority; and (2) terminate the contract or, in the alternative, reform the price to the $24/MWh historical average in the Pacific Northwest. Snohomish also requests that the Commission set a refund effective date as early as July 2, 2001, and not later than 60 days from the date of filing of its complaint. A copy of the complaint was served on AEP.

Snohomish has requested privileged treatment of certain information in the complaint, and has filed privileged and public copies of the complaint, a request for privileged treatment, and a protective agreement.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before July 8, 2002. Protests will be considered by the Commission in determining the appropriate action to be taken, but will not serve to make protestants parties to the proceeding. Any person wishing to become a party must file a motion to intervene. Answers to the complaint shall also be due on or before July 8, 2002. Copies of this filing are on file with the Commission and are available for public inspection. This filing may also be viewed on the web at http://www.ferc.gov using the “RIMS” link, select “Docket#” and follow the instructions (call 202-208-2222 for assistance). Comments, protests, interventions and answers may be filed electronically via the Internet in lieu of paper. See, 18 CFR 385.2001(a)(1)(iii) and the instructions on the Commission's web site under the “e-Filing” link.

Magalie R. Salas,
Secretary.

[FR Doc. 02-16150 Filed 6-25-02; 8:45 am]

BILLING CODE 6717-01-P